DEPARTMENT OF HOMELAND SECURITY

Coast Guard

[USCG-2006-26416]

Voyage Data Recorder Study

AGENCY: Coast Guard, DHS.

ACTION: Notice; request for information.

SUMMARY: This notice solicits public input as part of a study on the feasibility, cost and associated concerns or benefits with the installation of voyage data recorders on passenger vessels. In the Coast Guard and Maritime Transportation Act of 2006, the Congress directed the U.S. Coast Guard to conduct a study of the carriage of voyage data recorders (VDR) by certain passenger vessels. As part of this study, the Coast Guard is to look at the standards, the methods for approval of models, and the procedures for the annual testing of the VDR.

DATES: Information and related material must reach the Docket Management Facility on or before February 6, 2007.

ADDRESSES: You may submit information identified by Coast Guard docket number USCG-2006-26416 to the Docket Management Facility at the U.S. Department of Transportation. To avoid duplication, please use only one of the following methods:

(1) Web site: http://dms.dot.gov.

(2) Mail: Docket Management Facility, U.S. Department of Transportation, 400 Seventh Street, SW., Washington, DC 20590-0001.

(3) Fax: 202-493-2251.

(4) Delivery: Room PL-401 on the Plaza level of the Nassif Building, 400 Seventh Street, SW., Washington, DC, between 9 a.m. and 5 p.m., Monday through Friday, except Federal holidays. The telephone number is 202-366-9329.

(5) Federal eRulemaking Portal: http://www.regulations.gov. Follow the instructions on the Web site.

FOR FURTHER INFORMATION CONTACT: If you have questions on this notice, call or e-mail Ms. Dolores Mercier, U.S. Coast Guard Office of Design and Engineering Standards, telephone 202-372-1381, e-mail dolores.mercier@uscg.mil. If you have questions on viewing or submitting material to the docket, call Renee V. Wright, Program Manager, Docket Operations, telephone 202-493-0402.

SUPPLEMENTARY INFORMATION:

Request for Information

All comments and information received will be posted, without change, to http://dms.dot.gov and will include any personal information you have provided. We have an agreement with the Department of Transportation (DOT) to use the Docket Management Facility. Please see DOT's “Privacy Act” paragraph below.

Submitting comments and information: If you submit information, please include your name and address, identify the docket number for this notice (USCG-2006-26416) and give the reason for each comment or for bringing information to our attention. You may submit your information by electronic means, mail, fax, or delivery to the Docket Management Facility at the address under ADDRESSES; but please submit your information by only one means. If you submit them by mail or delivery, submit them in an unbound format, no larger than 8½ by 11 inches, suitable for copying and electronic filing. If you submit them by mail and would like to know that they reached the Facility, please enclose a stamped, self-addressed postcard or envelope. We will consider all comments and information received during the comment period.

Viewing comments and documents: To view comments, go to http://dms.dot.gov at any time and conduct a simple search using the docket number. You may also visit the Docket Management Facility in room PL-401 on the Plaza level of the Nassif Building, 400 Seventh Street SW., Washington, DC, between 9 a.m. and 5 p.m., Monday through Friday, except Federal holidays.

Privacy Act: Anyone can search the electronic form of all comments and information received into any of our dockets by the name of the individual submitting the comment (or signing the comment, if submitted on behalf of an association, business, labor union, etc.). You may review the Department of Transportation's Privacy Act Statement in the Federal Register published on April 11, 2000 (65 FR 19477), or you may visit http://dms.dot.gov.

Background and Purpose

In the Coast Guard and Maritime Transportation Act of 2006, section 420, Congress directed the U.S. Coast Guard to conduct a study of the carriage of voyage data recorders (VDR) by passenger vessels described in section 2101(22)(D) of title 46, United States Code, carrying more than 399 passengers. The study is to include the standards, the methods for approval of models, and the procedures for the annual testing of the VDR's.

The vessels that this study involves are ferries of at least 100 gross tons as measured under title 46 U.S.C. section 14502 or an alternative tonnage measured under title 46 U.S.C. 14302, providing transportation only between places that are not more than 300 miles apart carrying more than 399 passengers.

This study will review the history of VDR's, their current regulation and carriage requirements, the cost of the equipment, and the potential benefits. Consultation from both VDR manufacturer's and the operators of the affected ferries will be included.

Through this notice, the Coast Guard asks for comments and information related to the carriage of VDR's. The most helpful comments will be those that include details about:

• Installation;

• Equipment costs;

• Operational requirements;

• VDR equipment standards and approval methods; and

• Training requirements.

In submitting comments on these issues, the Coast Guard recognizes and encourages input from all parties that will be affected if the carriage requirement becomes mandatory. The following questions should assist you in submitting your comments.

• What are the potential benefits from the installation of a VDR?

• For passenger vessels subject to the Safety of Life at Sea (SOLAS) 2000 amendments, the Coast Guard has implemented standards for VDR's as well as methods of approval and procedures for the annual performance testing. Should the Coast Guard use these established standards and procedures for the purposes of this study?

• What would be the potential cost of equipment and installation?

• What types of equipment inputs would be required vs. the equipment inputs that are actually available?

• Would the crew need to change operational practices?

• What additional training, if any would be required?

• In what type of marine incidents (e.g., grounding, collisions, etc) would VDR's prove the most useful?

• Should the Coast Guard consider the use of a Simplified Voyage Data Recorder (S-VDR) in lieu of a VDR?

• What is the operational feasibility of recovering the VDR data box?

• What would be the guidelines for the ownership and or rights to access the data?

• If carriage of the VDR becomes mandatory, what would be a reasonable timeline for implementation?

• Would the carriage of VDR's on other domestic vessels be beneficial? If so, which vessels and why?

• Is the current threshold of 399 passengers or more appropriate? Should other thresholds be considered?

The voyage data recorder study report will be available to the public, and comments submitted in response to this notice will be addressed in the report.

Dated: December 4, 2006.
Howard L. Hime,
Acting Director of National and International Standards, Assistant Commandant for Prevention, U.S. Coast Guard.

[FR Doc. E6-20801 Filed 12-7-06; 8:45 am]

BILLING CODE 4910-15-P